DEPARTMENT OF TRANSPORTATION

Federal Aviation Administration

Aircraft Registration Application

AGENCY: Federal Aviation Administration (FAA), DOT.

ACTION: Notice—Aircraft Registration Applications, AC Form 8050-1.

SUMMARY: The Federal Aviation Administration will no longer accept Aircraft Registration Applications, AC Form 8050-1, which do not contain the printed or typed name of the signer in the signature block.

EFFECTIVE DATE: June 1, 2004.

FOR FURTHER INFORMATION CONTACT: Walter Binkley, Manager, Aircraft Registration Branch (AFS-750), Mike Monroney Aeronautical Center, Federal Aviation Administration (AFS-750), Post Office Box 25504, Oklahoma City, OK 73125. Telephone (405) 954-3131.

SUPPLEMENTARY INFORMATION: Incident to the Federal Aviation Drug Enforcement Assistance Act, Section 44111 of Title 49, United States Code, directs the Administrator to address certain deficiencies in the aircraft registration system. Subsection 44111(c)(3)(E) determines that the submission of names of individuals on applications for registration of aircraft that are not identifiable is a deficiency in the system.

Accordingly, the Administrator will address this deficiency by no longer accepting Aircraft Registration Applications, AC Form 8050-1, unless the printed or typed name of the signer is included in the signature block.

Issued in Oklahoma City, OK, on March 10, 2004.
Mark Lash,
Manager, Civil Aviation Registry.

[FR Doc. 04-6383 Filed 3-22-04; 8:45 am]

BILLING CODE 4910-13-M